DEPARTMENT OF COMMERCE

International Trade Administration

[A-549-822]

Certain Frozen Warmwater Shrimp From Thailand: Partial Rescission of Antidumping Duty Administrative Review; 2019-2020

AGENCY: Enforcement and Compliance, International Trade Administration, Department of Commerce.

SUMMARY: The Department of Commerce (Commerce) is rescinding the administrative review, in part, of the antidumping duty order on certain frozen warmwater shrimp (shrimp) from Thailand for the period of review, February 1, 2019, through January 31, 2020.

DATES: Applicable January 26, 2021.

FOR FURTHER INFORMATION CONTACT: Benjamin Luberda, AD/CVD Operations, Office II, Enforcement and Compliance, International Trade Administration, U.S. Department of Commerce, 1401 Constitution Avenue NW, Washington, DC 20230; telephone: (202) 482-2185.

SUPPLEMENTARY INFORMATION:

Background

On February 3, 2020, Commerce published in the Federal Register a notice of opportunity to request an administrative review of the antidumping duty order on certain frozen warmwater shrimp from Thailand for the period February 1, 2019, through January 31, 2020.¹ In February 2019, Commerce received timely requests, in accordance with section 751(a) of the Tariff Act of 1930, as amended (the Act), to conduct an administrative review of this antidumping duty order from the Ad Hoc Shrimp Trade Action Committee (the petitioner), the American Shrimp Processors Association (ASPA), and certain individual companies.² On April 8, 2020, Commerce initiated an administrative review of 100 companies.³

¹ See Antidumping or Countervailing Duty Order, Finding, or Suspended Investigation; Opportunity to Request Administrative Review, 85 FR 5938 (February 3, 2020).

² See Petitioner's Letter, “Certain Frozen Warmwater Shrimp from Thailand: Request for Administrative Reviews,” dated Feburary 27, 2020; ASPA's Letter, “Administrative Review of the Antidumping Duty Order Covering Frozen Warmwater Shrimp from Thailand (POR 15: 02/01/19-01/31/20): American Shrimp Processors Association's Request for Administrative Reviews,” dated February 26, 2020; Thai Royal Frozen Food Co., Ltd.'s (Thai Royal's) Letter, “Frozen Warmwater Shrimp from Thailand: Request for Administrative Review and Request for Voluntary Treatment,” dated February 24, 2020; Thai Union Public Co., Ltd.'s; Thai Union Seafood Co., Ltd.'s; Pakfood Public Company Limited's; and Okeanos Food Co., Ltd.'s Letter, “Frozen Warmwater Shrimp from Thailand: Request for Administrative Review and Request for Voluntary Treatment,” dated February 24, 2020.

³ See Initiation of Antidumping and Countervailing Duty Administrative Reviews, 85 FR 19730, 19735-36 (April 8, 2020).

On April 24, 2020, Commerce tolled all pending deadlines in this administrative review by 50 days.⁴ On July 21, 2020, Commerce again tolled the preliminary results of this administrative review by an additional 60 days.⁵

⁴ See Memorandum, “Tolling of Deadlines for Antidumping and Countervailing Duty Administrative Reviews in Response to Operational Adjustments Due to COVID-19,” dated April 24, 2020.

⁵ See Memorandum, “Tolling of Deadlines for Antidumping and Countervailing Duty Administrative Reviews,” dated July 21, 2020.

In August 2020, all parties except Thai Union ⁶ timely withdrew their requests for an administrative review.⁷

⁶ In the 2012-2013 administrative review, Commerce found that the following companies comprised a single entity: Thai Union Frozen Products Public Co. Ltd. and Thai Union Seafood Co., Ltd.; Pakfood Public Company Limited; Asia Pacific (Thailand) Co., Ltd.; Chaophraya Cold Storage Co. Ltd.; Okeanos Co. Ltd.; Okeanos Food Co. Ltd.; and Takzin Samut Co. Ltd. (collectively, Thai Union). See Certain Frozen Warmwater Shrimp from Thailand: Final Results of Antidumping Duty Administrative Review, Final Determination of No Shipments, and Partial Rescission of Review; 2012-2013, 79 FR 51306 (August 28, 2014). Further, on January 5, 2016, Commerce found that Thai Union Group Public Co., Ltd., is the successor-in-interest to Thai Union Frozen Products Public Co., Ltd. See Notice of Final Results of Antidumping Duty Changed Circumstances Review: Certain Frozen Warmwater Shrimp from Thailand, 81 FR 222 (January 5, 2016). Therefore, we are treating these companies as a single entity (Thai Union) for the purposes of this administrative review.

⁷ See Petitioner's Letter, “Certain Frozen Warmwater Shrimp from Thailand: Domestic Producers' Withdrawal of Review Requests;” ASPA's Letter, “Certain Frozen Warmwater Shrimp from Thailand: American Shrimp Processors Association's Withdrawal of Review Requests”, dated August 25, 2020; and Thai Royal's Letter, “Frozen Warmwater Shrimp from Thailand: Withdrawal of Request for Administrative Review,” dated August 25, 2020.

Partial Rescission of Review

Pursuant to 19 CFR 351.213(d)(1), the Secretary will rescind an administrative review, in whole or in part, if a party who requested the review withdraws the request within 90 days of the date of publication of notice of initiation of the requested review. The Secretary may extend this time limit if the Secretary decides that it is reasonable to do so. As noted above, Commerce extended all pending deadlines for administrative reviews by 50 days on April 24, 2020, including the deadline to withdraw requests for review. Because certain interested parties timely withdrew their requests for administrative review for certain companies by the extended 140-day deadline, we are rescinding this administrative review with respect to those companies, pursuant to 19 CFR 351.213(d)(1). For a list of the companies for which we are rescinding this review, see the Appendix to this notice, pursuant to 19 CFR 351.213(d)(1).

The instant review will continue only with respect to Thai Union.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice serves as a reminder to parties subject to administrative protective order (APO) of their responsibility concerning the disposition of proprietary information disclosed under APO in accordance with 19 CFR 351.305(a)(3), which continues to govern business proprietary information. Timely written notification of the return/destruction of APO materials or conversion to judicial protective order is hereby requested. Failure to comply with the regulations and terms of an APO is a violation which is a sanctionable violation.

Notification to Interested Parties

This notice is issued and published in accordance with section 751(a)(1) and 751(i)(1) of the Act, and 19 CFR 351.213(d)(4).

Dated: January 21, 2021.
James Maeder,
Deputy Assistant Secretary for Antidumping and Countervailing Duty Operations.

Appendix

List of Companies for Which Administrative Review Has Been Rescinded

1. A Foods 1991 Co., Ltd./May Ao Foods Co., Ltd.

2. A. Wattanachai Frozen Products Co., Ltd.

3. A.P. Frozen Foods Co., Ltd.

4. A.S. Intermarine Foods Co., Ltd.

5. Ampai Frozen Food Co., Ltd.

6. Anglo-Siam Seafoods Co., Ltd.

7. Apitoon Enterprise Industry Co., Ltd.

8. Asian Alliance International Co., Ltd.

9. Asian SeaFoods Coldstorage (Suratthani) Co., Limited

10. Asian Seafoods Coldstorage PLC

11. Asian SeaFoods Coldstorage Public Co., Ltd.

12. B.S.A. Food Products Co., Ltd.

13. C.P. Intertrade Co. Ltd.

14. Chaivaree Marine Products Co., Ltd.

15. Chanthaburi Frozen Food Co., Ltd.

16. Chanthaburi Seafoods Co., Ltd.

17. Charoen Pokphand Foods Public Co., Ltd./CP Merchandising Co., Ltd.

18. Chonburi LC

19. Commonwealth Trading Co., Ltd.

20. CPF Food Products Co., Ltd.

21. Crystal Frozen Foods Co., Ltd.

22. Daedong (Thailand) Co. Ltd.

23. Daiei Taigen (Thailand) Co., Ltd.

24. Daiho (Thailand) Co., Ltd.

25. Earth Food Manufacturing Co., Ltd.

26. F.A.I.T. Corporation Limited

27. Far East Cold Storage Co., Ltd.

28. Findus (Thailand) Ltd.

29. Fortune Frozen Foods (Thailand) Co., Ltd.

30. Gallant Ocean (Thailand) Co., Ltd.

31. Golden Sea Frozen Foods Co., Ltd.

32. Golden Seafood International Co., Ltd.

33. Good Fortune Cold Storage Co., Ltd.

34. Good Luck Product Co., Ltd.

35. Grobest Frozen Foods Co., Ltd.

36. Haitai Seafood Co., Ltd.

37. Handy International (Thailand) Co., Ltd.

38. Heritrade Co., Ltd.

39. HIC (Thailand) Co., Ltd.

40. I.T. Foods Industries Co., Ltd.

41. Inter-Oceanic Resources Co., Ltd.

42. Inter-Pacific Marine Products Co., Ltd.

43. K & U Enterprise Co., Ltd.

44. Kiang Huat Sea Gull Trading Frozen Food Public Co., Ltd.

45. Kingfisher Holdings Ltd./KF Foods Limited

46. Kitchens of The Oceans (Thailand) Company Ltd.

47. Kongphop Frozen Foods Co., Ltd.

48. Lee Heng Seafood Co., Ltd.

49. Li-Thai Frozen Foods Co., Ltd.

50. Lucky Union Foods Co., Ltd.

51. Mahachai Food Processing Co., Ltd.

52. Marine Gold Products Ltd.

53. Merkur Co., Ltd.

54. N&N Foods Co., Ltd.

55. N.R. Instant Produce Co., Ltd.

56. Narong Seafood Co., Ltd.

57. Nongmon SMJ Products

58. Pacific Fish Processing Co., Ltd.

59. Penta Impex Co., Ltd.

60. Phatthana Frozen Food Co., Ltd.

61. Phatthana Seafood Co., Ltd.

62. Premier Frozen Products Co., Ltd.

63. S & D Marine Products Co., Ltd.

64. S. Chaivaree Cold Storage Co., Ltd.

65. S. Khonkaen Food Industry Public Co., Ltd.

66. S.K. Foods (Thailand) Public Co. Limited

67. S2K Marine Product Co., Ltd.

68. Sea Bonanza Food Co., Ltd.

69. Seafresh Industry Public Co., Ltd./Seafresh Fisheries

70. Sethachon Co.. Ltd.

71. Shianlin Bangkok Co., Ltd.

72. Shing-Fu Seaproducts Development Co.

73. Siam Food Supply Co., Ltd.

74. Siam Intersea Co., Ltd.

75. Siam Marine Products Co. Ltd.

76. Siam Ocean Frozen Foods Co., Ltd.

77. Siamchai International Food Co., Ltd.

78. Smile Heart Foods

79. SMP Food Product Co., Ltd.

80. Southport Seafood

81. Starfoods Industries Co., Ltd.

82. STC Foodpak Ltd.

83. Suntechthai Intertrading Co., Ltd.

84. Surapon Foods Public Co., Ltd./Surat Seafoods Public Co., Ltd.

85. Surapon Nichirei Foods Co., Ltd.

86. Tep Kinsho Foods Co., Ltd.

87. Tey Seng Cold Storage Co., Ltd./Chaiwarut Co., Ltd.

88. Thai Agri Foods Public Co., Ltd.

89. Thai I Mei Frozen Food Co., Ltd.

90. Thai Ocean Venture Co., Ltd.

91. Thai Royal Frozen Food Co., Ltd.

92. Thai Spring Fish Co., Ltd.

93. Thai Union Manufacturing Company Limited

94. The Siam Union Frozen Foods Co., Ltd.

95. The Union Frozen Products Co., Ltd./Bright Sea Co., Ltd.

96. Top Product Food Co., Ltd.

97. Trang Seafood Products Public Co., Ltd.

98. Xian-Ning Seafood Co., Ltd.

99. Yeenin Frozen Foods Co., Ltd.

[FR Doc. 2021-01673 Filed 1-25-21; 8:45 am]

BILLING CODE 3510-DS-P